POSTAL SERVICE

Change in Rates and Classes of General Applicability for Competitive Products

AGENCY: Postal Service.

ACTION: Notice of a change in rates of general applicability for competitive products.

SUMMARY: This notice sets forth changes in rates of general applicability for competitive products.

DATES: Effective date: September 7, 2014.

FOR FURTHER INFORMATION CONTACT: Daniel J. Foucheaux, Jr., 202-268-2989.

SUPPLEMENTARY INFORMATION: On July 1, 2014, pursuant to their authority under 39 U.S.C. 3632, the Governors of the Postal Service established prices and classification changes for competitive products. The Governors' Decision and the record of proceedings in connection with such decision are reprinted below in accordance with section 3632(b)(2).

Stanley F. Mires,
Attorney, Legal Policy & Legislative Advice.

Decision of the Governors of the United States Postal Service on Changes in Rates of General Applicability for Competitive Products (Governors' Decision No. 14-03)

June 18, 2014

Statement of Explanation and Justification

Pursuant to our authority under section 3632 of title 39, as amended by the Postal Accountability and Enhancement Act of 2006 (“PAEA”), we establish price changes for the Postal Service's shipping services (competitive products), specifically for Priority Mail. The changes are described generally below, with a detailed description of the changes in the attachment. The attachment includes the draft Mail Classification Schedule sections with changes in classification language in legislative format, and new prices displayed in the price charts.

The existing structure of Priority Mail Retail, Commercial Base, and Commercial Plus price categories is maintained. Prices in the ground zones (Zones 1-4) and heavier weights (6-20 pounds) will be adjusted to enhance Priority Mail's strategic position in the market. Retail prices will have an average prices increase of 1.7 percent. Commercial Base prices will have an average price decrease of 0.9 percent, while Commercial Plus prices will have an average price decrease of 2.3 percent. Price decreases will be targeted to attract ground volume in the six- to twenty-pound weight cells.

As shown in the nonpublic annex being filed under seal herewith, the changes we establish should enable each competitive product to cover its attributable costs (39 U.S.C. § 3633(a)(2)) and should result in competitive products as a whole complying with 39 U.S.C. § 3633(a)(3), which, as implemented by 39 C.F.R. § 3015.7(c), requires competitive products to contribute a minimum of 5.5 percent to the Postal Service's institutional costs. Accordingly, no issue of subsidization of competitive products by market dominant products should arise (39 U.S.C. § 3633(a)(1)). We therefore find that the new prices and classification changes are in accordance with 39 U.S.C. §§ 3632-3633 and 39 C.F.R. § 3015.2.

Order

The changes in prices set forth herein shall be effective at 12:01 a.m. on September 7, 2014. We direct the Secretary to have this decision published in the Federal Register in accordance with 39 U.S.C. § 3632(b)(2). We also direct management to file with the Postal Regulatory Commission appropriate notice of these changes.

By The Governors:

/s/

Mickey D. Barnett

Chairman

Part B

Competitive Products

2000 Competitive Product List

* * * * *

2001 Competitive Product Descriptions

* * * * *

2100 Domestic Products

* * * * *

2110 Priority Mail

* * * * *

* * * * *

2110.6 Prices

Retail Priority Mail Zone/Weight
Maximum weight (pounds) | Local, Zones 1 & 2 ($) | Zone 3 ($) | Zone 4 ($) | Zone 5 ($) | Zone 6 ($) | Zone 7 ($) | Zone 8 ($) | Zone 9 ($)
1 | 5.75 | 5.85 | 6.00 | 6.15 | 6.40 | 6.65 | 7.15 | 8.35
2 | 5.95 | 6.35 | 7.05 | 9.00 | 9.75 | 10.55 | 11.55 | 13.50
3 | 6.70 | 7.70 | 8.85 | 10.80 | 12.20 | 13.10 | 15.50 | 18.10
4 | 7.55 | 9.00 | 10.15 | 14.25 | 15.65 | 16.75 | 18.65 | 21.80
5 | 8.95 | 9.95 | 11.30 | 16.20 | 17.80 | 19.20 | 21.55 | 25.20
6 | 9.60 | 10.80 | 12.10 | 18.00 | 20.00 | 21.55 | 24.30 | 28.45
7 | 10.20 | 11.70 | 13.05 | 20.05 | 22.15 | 24.20 | 27.35 | 32.00
8 | 10.95 | 12.35 | 13.60 | 21.80 | 24.30 | 26.75 | 30.60 | 35.80
9 | 11.45 | 12.70 | 14.10 | 23.00 | 26.45 | 28.90 | 34.05 | 39.85
10 | 12.15 | 12.75 | 14.35 | 24.95 | 28.55 | 31.80 | 37.10 | 43.40
11 | 13.00 | 13.25 | 14.50 | 26.90 | 30.65 | 35.10 | 40.70 | 48.05
12 | 13.40 | 13.65 | 14.70 | 28.85 | 33.35 | 37.95 | 43.70 | 51.55
13 | 13.55 | 14.00 | 14.90 | 30.50 | 35.80 | 39.45 | 45.30 | 53.40
14 | 13.75 | 14.40 | 15.10 | 32.40 | 37.80 | 41.70 | 47.55 | 56.10
15 | 14.00 | 14.85 | 15.30 | 34.30 | 39.40 | 42.60 | 48.85 | 57.65
16 | 14.80 | 15.90 | 16.80 | 36.20 | 41.65 | 44.95 | 51.60 | 60.85
17 | 15.55 | 16.90 | 18.30 | 38.10 | 43.75 | 47.35 | 54.30 | 64.05
18 | 16.30 | 17.90 | 19.80 | 39.95 | 46.05 | 49.65 | 57.05 | 67.35
19 | 17.05 | 18.90 | 21.30 | 41.05 | 46.95 | 50.70 | 58.25 | 70.50
20 | 17.80 | 19.90 | 22.80 | 41.75 | 48.10 | 52.55 | 60.95 | 73.75
21 | 18.55 | 20.90 | 24.30 | 42.35 | 48.90 | 53.40 | 62.35 | 76.05
22 | 19.30 | 21.90 | 26.30 | 43.35 | 50.00 | 54.70 | 63.85 | 77.90
23 | 20.05 | 22.90 | 28.30 | 44.10 | 50.90 | 55.75 | 65.00 | 79.30
24 | 20.80 | 24.15 | 30.30 | 45.05 | 51.95 | 57.15 | 66.60 | 81.25
25 | 22.20 | 27.00 | 33.80 | 45.80 | 52.65 | 58.60 | 67.70 | 82.60
26 | 22.60 | 27.25 | 34.95 | 46.75 | 53.95 | 60.05 | 69.85 | 85.20
27 | 23.25 | 27.65 | 36.00 | 47.65 | 54.70 | 61.45 | 72.45 | 88.40
28 | 24.00 | 28.05 | 37.05 | 48.85 | 55.45 | 62.85 | 75.20 | 91.75
29 | 24.70 | 28.30 | 38.00 | 49.55 | 56.40 | 64.30 | 77.20 | 94.20
30 | 25.45 | 28.70 | 38.90 | 50.25 | 57.95 | 65.75 | 78.90 | 96.25
31 | 26.20 | 29.00 | 39.50 | 50.90 | 58.80 | 67.15 | 80.50 | 99.00
32 | 26.50 | 29.60 | 40.20 | 51.50 | 59.55 | 68.60 | 82.10 | 101.00
33 | 26.90 | 30.45 | 41.20 | 52.15 | 60.70 | 70.05 | 83.65 | 102.90
34 | 27.15 | 31.25 | 42.20 | 53.25 | 62.10 | 71.50 | 85.25 | 104.85
35 | 27.45 | 32.00 | 42.80 | 54.40 | 63.80 | 72.90 | 86.65 | 106.60
36 | 27.75 | 32.90 | 43.35 | 55.60 | 65.45 | 73.90 | 88.15 | 108.40
37 | 28.05 | 33.50 | 44.00 | 56.60 | 67.10 | 74.85 | 89.60 | 110.20
38 | 28.30 | 34.35 | 44.55 | 57.70 | 69.00 | 75.75 | 91.05 | 112.00
39 | 28.60 | 35.10 | 45.10 | 58.90 | 70.65 | 77.70 | 92.40 | 113.65
40 | 28.95 | 35.85 | 45.70 | 60.15 | 71.80 | 79.45 | 93.70 | 115.25
41 | 29.25 | 36.55 | 46.20 | 60.70 | 72.95 | 81.15 | 95.05 | 117.85
42 | 29.45 | 37.20 | 46.75 | 62.00 | 74.25 | 82.20 | 96.35 | 119.45
43 | 29.80 | 37.80 | 47.15 | 63.40 | 76.05 | 83.25 | 97.55 | 120.95
44 | 30.00 | 38.40 | 47.75 | 64.70 | 77.25 | 84.25 | 98.70 | 122.40
45 | 30.20 | 38.85 | 48.10 | 66.20 | 78.10 | 85.20 | 99.95 | 123.95
46 | 30.45 | 39.15 | 48.60 | 67.40 | 78.95 | 86.10 | 101.15 | 125.45
47 | 30.70 | 39.45 | 49.05 | 68.95 | 79.80 | 87.05 | 102.25 | 126.80
48 | 30.95 | 39.80 | 49.50 | 70.30 | 80.85 | 87.90 | 103.35 | 128.15
49 | 31.15 | 40.10 | 49.90 | 71.60 | 81.90 | 88.80 | 104.40 | 129.45
50 | 31.30 | 40.35 | 50.25 | 73.00 | 83.05 | 89.95 | 105.50 | 130.80
51 | 31.45 | 40.70 | 50.70 | 74.20 | 84.20 | 91.25 | 106.45 | 133.05
52 | 31.85 | 40.95 | 51.05 | 74.80 | 85.05 | 92.60 | 107.70 | 134.65
53 | 32.35 | 41.25 | 51.40 | 75.40 | 85.75 | 94.10 | 109.10 | 136.40
54 | 32.80 | 41.45 | 51.75 | 76.00 | 86.40 | 95.50 | 110.65 | 138.30
55 | 33.35 | 41.75 | 52.00 | 76.55 | 87.05 | 96.95 | 112.10 | 140.15
56 | 33.80 | 41.95 | 52.30 | 77.05 | 87.65 | 98.35 | 113.15 | 141.45
57 | 34.30 | 42.10 | 52.65 | 77.50 | 88.30 | 99.85 | 114.00 | 142.50
58 | 34.85 | 42.30 | 52.95 | 78.05 | 88.80 | 101.20 | 114.85 | 143.55
59 | 35.40 | 42.50 | 53.20 | 78.50 | 89.35 | 101.85 | 115.75 | 144.70
60 | 35.85 | 42.70 | 53.75 | 78.90 | 89.80 | 102.45 | 116.50 | 145.65
61 | 36.40 | 42.90 | 54.70 | 79.30 | 90.30 | 103.05 | 118.10 | 147.65
62 | 36.80 | 43.00 | 55.40 | 79.70 | 90.75 | 103.50 | 120.00 | 150.00
63 | 37.50 | 43.20 | 56.30 | 80.10 | 91.25 | 104.00 | 121.90 | 152.40
64 | 37.85 | 43.30 | 57.10 | 80.45 | 91.60 | 104.50 | 123.75 | 154.70
65 | 38.35 | 43.40 | 57.90 | 80.70 | 91.90 | 105.00 | 125.70 | 157.15
66 | 38.85 | 43.60 | 58.80 | 81.10 | 92.35 | 105.35 | 127.50 | 159.40
67 | 39.45 | 43.70 | 59.80 | 81.40 | 92.65 | 105.75 | 129.20 | 161.50
68 | 39.95 | 43.80 | 60.60 | 81.60 | 93.80 | 106.15 | 130.60 | 163.25
69 | 40.50 | 43.85 | 61.30 | 81.80 | 94.95 | 106.45 | 131.95 | 164.95
70 | 40.90 | 43.95 | 62.30 | 82.05 | 96.10 | 106.85 | 133.40 | 166.75

Retail Flat Rate Envelopes ¹
| ($)
Retail Regular Flat Rate Envelope, per piece | 5.75
Retail Legal Flat Rate Envelope, per piece | 5.90
Retail Padded Flat Rate Envelope, per piece | 6.10
Notes
¹ The price for Regular, Legal, or Padded Flat Rate Envelopes also applies to sales of Regular, Legal, or Padded Flat Rate Envelopes, respectively, marked with Forever postage, at the time the envelopes are purchased.

Retail Flat Rate Boxes ¹
Size | Delivery to domestic address ($) | Delivery to APO/FPO/DPO address ($)
Small Flat Rate Boxes | 5.95 | 5.95
Medium Flat Rate Boxes | 12.65 | 12.65
Large Flat Rate Boxes | 17.90 | 15.90
Notes
¹ The price for Small, Medium, or Large Flat Rate Boxes also applies to sales of Small, Medium, or Large Flat Rate Boxes, respectively, marked with Forever postage, at the time the boxes are purchased.

Regional Rate Boxes
Size | Local, Zones 1 & 2 ($) | Zone 3 ($) | Zone 4 ($) | Zone 5 ($) | Zone 6 ($) | Zone 7 ($) | Zone 8 ($) | Zone 9 ($)
A | 6.07 | 6.19 | 6.59 | 8.30 | 9.01 | 9.73 | 10.72 | 12.71
B | 6.91 | 8.00 | 8.85 | 11.41 | 14.12 | 15.17 | 17.03 | 20.28
C | 10.60 | 11.45 | 11.49 | 20.53 | 38.13 | 41.64 | 48.18 | 58.14

Retail Balloon Price

In Zones 1-4 (including local), parcels weighing less than 20 pounds but measuring more than 84 inches in combined length and girth (but not more than 108 inches) are charged the applicable price for a 20-pound parcel.

Retail Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial Base Priority Mail Zone/Weight
Maximum weight (pounds) | Local, Zones 1 & 2 ($) | Zone 3 ($) | Zone 4 ($) | Zone 5 ($) | Zone 6 ($) | Zone 7 ($) | Zone 8 ($) | Zone 9 ($)
1 | 5.05 | 5.23 | 5.35 | 5.54 | 5.75 | 6.02 | 6.51 | 7.81
2 | 5.32 | 5.44 | 5.84 | 7.55 | 8.26 | 8.98 | 9.97 | 11.96
3 | 5.49 | 6.39 | 7.36 | 9.11 | 10.72 | 11.59 | 13.52 | 16.22
4 | 6.16 | 7.25 | 8.10 | 10.66 | 13.37 | 14.42 | 16.28 | 19.53
5 | 6.78 | 7.33 | 8.42 | 11.26 | 15.22 | 16.58 | 18.87 | 22.64
6 | 6.95 | 7.55 | 8.55 | 12.11 | 17.08 | 18.90 | 21.61 | 25.94
7 | 7.27 | 7.75 | 9.05 | 12.99 | 18.91 | 21.31 | 24.27 | 29.12
8 | 7.54 | 8.25 | 9.28 | 13.64 | 20.79 | 23.46 | 27.25 | 32.70
9 | 8.02 | 8.45 | 9.42 | 14.42 | 22.61 | 25.41 | 30.30 | 36.36
10 | 8.28 | 8.49 | 9.56 | 15.27 | 24.43 | 27.93 | 32.95 | 39.54
11 | 8.57 | 8.83 | 9.65 | 15.93 | 26.21 | 30.40 | 35.70 | 43.20
12 | 8.78 | 9.10 | 9.74 | 16.81 | 28.58 | 32.87 | 38.28 | 46.32
13 | 8.99 | 9.32 | 9.86 | 17.70 | 30.69 | 34.20 | 39.64 | 47.97
14 | 9.14 | 9.57 | 9.96 | 18.41 | 32.41 | 36.12 | 41.61 | 50.35
15 | 9.27 | 9.87 | 10.07 | 18.78 | 33.66 | 36.80 | 42.71 | 51.68
16 | 9.77 | 10.37 | 10.51 | 19.28 | 35.57 | 38.86 | 45.06 | 54.52
17 | 9.85 | 10.70 | 10.74 | 19.78 | 37.38 | 40.89 | 47.43 | 57.39
18 | 9.96 | 10.84 | 11.05 | 20.28 | 39.35 | 42.90 | 49.82 | 60.29
19 | 10.08 | 11.21 | 11.43 | 20.78 | 41.12 | 44.91 | 52.19 | 63.14
20 | 10.26 | 11.57 | 11.82 | 21.28 | 42.17 | 46.58 | 54.60 | 66.06
21 | 11.76 | 13.07 | 13.32 | 22.78 | 42.51 | 47.02 | 55.30 | 67.47
22 | 13.26 | 14.57 | 15.07 | 24.53 | 42.81 | 47.39 | 55.94 | 68.25
23 | 14.76 | 16.07 | 17.07 | 26.53 | 43.05 | 47.72 | 56.27 | 68.65
24 | 16.26 | 18.07 | 20.07 | 29.53 | 43.95 | 48.95 | 57.64 | 70.33
25 | 17.76 | 20.07 | 24.07 | 32.53 | 44.59 | 50.17 | 58.64 | 71.54
26 | 18.77 | 23.00 | 29.24 | 36.53 | 45.68 | 51.40 | 60.47 | 73.77
27 | 19.31 | 23.34 | 30.14 | 39.92 | 46.30 | 52.60 | 62.76 | 76.57
28 | 19.90 | 23.66 | 30.98 | 40.96 | 46.92 | 53.83 | 65.11 | 79.44
29 | 20.50 | 23.89 | 31.82 | 41.50 | 47.72 | 55.06 | 66.86 | 81.56
30 | 21.13 | 24.25 | 32.57 | 42.09 | 49.06 | 56.27 | 68.30 | 83.33
31 | 21.71 | 24.49 | 33.08 | 42.61 | 49.77 | 57.52 | 69.69 | 85.72
32 | 21.96 | 25.00 | 33.63 | 43.12 | 50.42 | 58.75 | 71.11 | 87.47
33 | 22.30 | 25.69 | 34.48 | 43.68 | 51.39 | 59.95 | 72.43 | 89.08
34 | 22.50 | 26.37 | 35.34 | 44.62 | 52.60 | 61.20 | 73.80 | 90.77
35 | 22.77 | 27.00 | 35.84 | 45.56 | 54.01 | 62.42 | 75.05 | 92.31
36 | 23.05 | 27.78 | 36.32 | 46.55 | 55.38 | 63.27 | 76.33 | 93.89
37 | 23.29 | 28.28 | 36.84 | 47.39 | 56.83 | 64.08 | 77.58 | 95.43
38 | 23.50 | 28.97 | 37.31 | 48.33 | 58.42 | 64.83 | 78.82 | 96.95
39 | 23.75 | 29.64 | 37.75 | 49.33 | 59.80 | 66.54 | 80.04 | 98.45
40 | 23.99 | 30.27 | 38.22 | 50.35 | 60.76 | 68.02 | 81.13 | 99.79
41 | 24.25 | 30.79 | 38.63 | 50.81 | 61.78 | 69.46 | 82.29 | 102.04
42 | 24.43 | 31.42 | 39.12 | 51.91 | 62.85 | 70.41 | 83.41 | 103.43
43 | 24.71 | 31.92 | 39.51 | 53.08 | 64.36 | 71.28 | 84.48 | 104.76
44 | 24.87 | 32.45 | 39.98 | 54.19 | 65.39 | 72.13 | 85.45 | 105.96
45 | 25.04 | 32.78 | 40.28 | 55.42 | 66.12 | 72.93 | 86.53 | 107.30
46 | 25.25 | 33.03 | 40.69 | 56.45 | 66.84 | 73.70 | 87.56 | 108.58
47 | 25.46 | 33.29 | 41.08 | 57.77 | 67.54 | 74.54 | 88.54 | 109.79
48 | 25.66 | 33.59 | 41.42 | 58.85 | 68.42 | 75.26 | 89.50 | 110.98
49 | 25.85 | 33.85 | 41.76 | 59.91 | 69.35 | 76.04 | 90.38 | 112.07
50 | 25.96 | 34.06 | 42.05 | 61.12 | 70.32 | 77.00 | 91.34 | 113.27
51 | 26.34 | 34.37 | 42.44 | 62.16 | 71.28 | 78.11 | 92.19 | 115.24
52 | 26.75 | 34.53 | 42.69 | 62.60 | 71.98 | 79.30 | 93.27 | 116.59
53 | 27.23 | 34.79 | 42.98 | 63.12 | 72.58 | 80.58 | 94.46 | 118.08
54 | 27.63 | 34.94 | 43.30 | 63.66 | 73.10 | 81.75 | 95.79 | 119.74
55 | 28.06 | 35.24 | 43.55 | 64.07 | 73.70 | 83.03 | 97.08 | 121.34
56 | 28.45 | 35.41 | 43.82 | 64.55 | 74.19 | 84.21 | 98.07 | 122.59
57 | 28.90 | 35.57 | 44.10 | 64.93 | 74.76 | 85.48 | 98.95 | 123.69
58 | 29.33 | 35.74 | 44.32 | 65.34 | 75.18 | 86.62 | 99.76 | 124.70
59 | 29.76 | 35.92 | 44.53 | 65.75 | 75.63 | 87.21 | 100.50 | 125.62
60 | 30.14 | 36.08 | 45.11 | 66.09 | 76.01 | 87.73 | 101.20 | 126.50
61 | 30.61 | 36.25 | 45.91 | 66.43 | 76.43 | 88.23 | 102.56 | 128.21
62 | 30.99 | 36.33 | 46.52 | 66.73 | 76.79 | 88.63 | 104.20 | 130.25
63 | 31.54 | 36.45 | 47.27 | 67.08 | 77.22 | 89.05 | 105.86 | 132.33
64 | 31.83 | 36.54 | 47.98 | 67.36 | 77.56 | 89.46 | 107.50 | 134.37
65 | 32.29 | 36.63 | 48.62 | 67.58 | 77.80 | 89.88 | 109.17 | 136.47
66 | 32.72 | 36.80 | 49.37 | 67.89 | 78.18 | 90.16 | 110.76 | 138.45
67 | 33.20 | 36.89 | 50.20 | 68.14 | 78.45 | 90.53 | 112.22 | 140.28
68 | 33.59 | 36.97 | 50.85 | 68.32 | 79.42 | 90.99 | 113.42 | 141.78
69 | 34.06 | 37.02 | 51.48 | 68.53 | 80.37 | 91.43 | 114.62 | 143.28
70 | 34.41 | 37.10 | 52.30 | 68.73 | 81.34 | 91.76 | 115.85 | 144.82

Commercial Base Flat Rate Envelopes
| ($)
Commercial Base Regular Flat Rate Envelope, per piece | 5.05
Commercial Base Legal Flat Rate Envelope, per piece | 5.25
Commercial Base Padded Flat Rate Envelope, per piece | 5.70

Commercial Base Flat Rate Box
Size | Delivery to domestic address ($) | Delivery to APO/FPO/DPO address ($)
Small Flat Rate Box | 5.25 | 5.25
Regular Flat Rate Boxes | 11.30 | 11.30
Large Flat Rate Boxes | 15.80 | 13.80

Commercial Base Regional Rate Boxes
Size | Local, Zones 1 & 2 ($) | Zone 3 ($) | Zone 4 ($) | Zone 5 ($) | Zone 6 ($) | Zone 7 ($) | Zone 8 ($) | Zone 9 ($)
A | 5.32 | 5.44 | 5.84 | 7.55 | 8.26 | 8.98 | 9.97 | 11.96
B | 6.16 | 7.25 | 8.10 | 10.66 | 13.37 | 14.42 | 16.28 | 19.53
C | 9.85 | 10.70 | 10.74 | 19.78 | 37.38 | 40.89 | 47.43 | 57.39

Commercial Base Balloon Price

In Zones 1-4 (including local), parcels weighing less than 20 pounds but measuring more than 84 inches in combined length and girth (but not more than 108 inches) are charged the applicable price for a 20-pound parcel.

Commercial Base Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial Plus Priority Mail Zone/Weight
Maximum weight (pounds) | Local, Zones 1 & 2 ($) | Zone 3 ($) | Zone 4 ($) | Zone 5 ($) | Zone 6 ($) | Zone 7 ($) | Zone 8 ($) | Zone 9 ($)
0.5 | 4.58 | 4.65 | 4.74 | 4.99 | 5.23 | 5.47 | 5.82 | 6.98
1 | 4.95 | 5.10 | 5.27 | 5.47 | 5.66 | 5.86 | 6.25 | 7.50
2 | 5.09 | 5.35 | 5.74 | 7.17 | 7.68 | 8.29 | 8.99 | 10.78
3 | 5.20 | 5.51 | 5.90 | 8.65 | 10.18 | 11.15 | 12.53 | 15.04
4 | 5.30 | 5.56 | 5.95 | 9.28 | 12.36 | 13.62 | 15.52 | 18.63
5 | 5.35 | 5.61 | 6.80 | 9.80 | 14.33 | 15.89 | 18.30 | 21.96
6 | 5.40 | 5.66 | 6.88 | 10.54 | 16.07 | 18.33 | 20.36 | 24.43
7 | 5.45 | 5.71 | 7.00 | 11.31 | 17.85 | 20.61 | 23.27 | 27.93
8 | 5.50 | 5.76 | 7.18 | 11.87 | 19.37 | 22.61 | 26.11 | 31.34
9 | 5.55 | 5.81 | 7.28 | 12.55 | 20.97 | 24.59 | 29.06 | 34.87
10 | 5.60 | 6.56 | 7.40 | 13.29 | 22.71 | 26.77 | 31.73 | 38.07
11 | 5.65 | 6.83 | 7.46 | 13.87 | 24.12 | 28.23 | 32.86 | 39.76
12 | 6.79 | 7.04 | 7.53 | 14.63 | 25.99 | 29.68 | 34.28 | 41.47
13 | 6.95 | 7.21 | 7.63 | 15.41 | 27.87 | 30.88 | 35.46 | 42.91
14 | 7.07 | 7.40 | 7.70 | 16.03 | 29.36 | 32.64 | 37.23 | 45.05
15 | 7.17 | 7.64 | 7.79 | 16.35 | 30.03 | 32.98 | 38.02 | 46.01
16 | 8.70 | 9.24 | 9.37 | 17.58 | 30.72 | 33.72 | 39.00 | 47.18
17 | 8.78 | 9.53 | 9.67 | 18.08 | 31.55 | 34.55 | 39.99 | 48.39
18 | 8.87 | 9.66 | 9.85 | 18.43 | 32.15 | 35.22 | 40.95 | 49.55
19 | 8.98 | 9.99 | 10.19 | 18.93 | 32.91 | 36.12 | 41.98 | 50.79
20 | 9.14 | 10.31 | 10.53 | 19.38 | 33.54 | 36.80 | 42.89 | 51.90
21 | 9.30 | 10.58 | 10.85 | 20.93 | 34.10 | 37.44 | 43.74 | 53.37
22 | 10.03 | 11.37 | 11.87 | 22.68 | 34.86 | 38.30 | 44.82 | 54.68
23 | 10.67 | 11.68 | 12.25 | 23.52 | 35.47 | 38.99 | 45.59 | 55.62
24 | 10.88 | 11.95 | 12.64 | 25.46 | 36.20 | 39.89 | 46.74 | 57.02
25 | 11.16 | 12.26 | 12.98 | 26.41 | 36.77 | 40.48 | 47.54 | 58.00
26 | 11.42 | 13.15 | 14.03 | 28.25 | 37.57 | 41.32 | 49.06 | 59.85
27 | 11.69 | 13.47 | 14.37 | 29.32 | 38.13 | 41.94 | 50.87 | 62.06
28 | 11.90 | 13.79 | 14.83 | 30.01 | 38.64 | 42.57 | 52.74 | 64.34
29 | 12.15 | 14.05 | 15.25 | 30.79 | 39.14 | 43.12 | 54.43 | 66.40
30 | 12.45 | 14.40 | 15.71 | 31.89 | 39.70 | 43.74 | 56.26 | 68.64
31 | 13.26 | 15.34 | 16.87 | 32.57 | 40.19 | 44.29 | 58.11 | 71.48
32 | 13.32 | 15.67 | 18.15 | 33.52 | 40.75 | 45.36 | 59.93 | 73.71
33 | 13.56 | 16.02 | 18.59 | 34.43 | 41.24 | 46.65 | 61.70 | 75.89
34 | 13.64 | 16.38 | 19.01 | 36.21 | 42.47 | 47.94 | 63.51 | 78.12
35 | 13.88 | 16.76 | 20.34 | 36.98 | 43.63 | 49.22 | 65.32 | 80.34
36 | 15.42 | 20.15 | 22.50 | 37.81 | 44.73 | 50.57 | 67.14 | 82.58
37 | 17.73 | 21.44 | 23.86 | 38.52 | 45.90 | 51.85 | 68.93 | 84.79
38 | 17.98 | 21.76 | 26.26 | 39.28 | 47.18 | 53.08 | 70.76 | 87.04
39 | 18.24 | 22.19 | 28.79 | 40.06 | 48.33 | 54.45 | 72.63 | 89.33
40 | 20.91 | 23.57 | 29.43 | 40.89 | 49.43 | 55.66 | 74.33 | 91.42
41 | 21.35 | 24.29 | 32.84 | 41.26 | 50.61 | 57.01 | 76.13 | 94.41
42 | 21.75 | 24.78 | 33.28 | 42.15 | 51.71 | 58.35 | 77.94 | 96.65
43 | 22.19 | 25.20 | 33.71 | 43.08 | 53.00 | 59.64 | 79.79 | 98.94
44 | 22.58 | 25.69 | 34.15 | 44.07 | 54.08 | 60.97 | 81.58 | 101.15
45 | 22.96 | 26.17 | 34.52 | 45.00 | 55.27 | 62.29 | 83.38 | 103.39
46 | 23.39 | 26.65 | 35.20 | 45.86 | 56.43 | 63.56 | 85.19 | 105.63
47 | 23.81 | 27.12 | 35.86 | 46.86 | 57.71 | 64.91 | 86.96 | 107.83
48 | 24.23 | 27.48 | 36.65 | 47.79 | 58.89 | 66.24 | 88.51 | 109.76
49 | 24.62 | 27.82 | 37.02 | 48.68 | 59.93 | 67.60 | 89.40 | 110.85
50 | 24.96 | 28.06 | 37.36 | 49.61 | 61.09 | 68.88 | 90.52 | 112.25
51 | 25.45 | 28.33 | 38.02 | 50.61 | 62.26 | 70.16 | 91.48 | 114.36
52 | 25.79 | 28.58 | 38.77 | 51.53 | 63.53 | 71.46 | 92.38 | 115.47
53 | 26.29 | 28.87 | 39.41 | 52.46 | 64.64 | 72.80 | 93.29 | 116.61
54 | 26.63 | 29.06 | 40.07 | 53.45 | 65.74 | 74.03 | 94.18 | 117.72
55 | 27.05 | 29.34 | 40.88 | 54.38 | 66.91 | 75.26 | 94.98 | 118.72
56 | 27.46 | 29.54 | 41.52 | 55.24 | 68.18 | 76.61 | 95.81 | 119.76
57 | 27.90 | 29.83 | 42.18 | 56.13 | 69.29 | 77.94 | 96.68 | 120.84
58 | 28.27 | 30.03 | 42.92 | 57.12 | 70.46 | 78.59 | 97.46 | 121.82
59 | 28.72 | 30.24 | 43.63 | 58.06 | 71.18 | 79.04 | 98.15 | 122.69
60 | 29.06 | 30.45 | 44.27 | 59.04 | 71.58 | 80.34 | 98.90 | 123.63
61 | 29.54 | 30.65 | 45.06 | 59.92 | 72.41 | 81.57 | 100.22 | 125.27
62 | 29.89 | 30.94 | 45.72 | 60.92 | 72.87 | 82.83 | 101.81 | 127.26
63 | 30.37 | 31.40 | 46.43 | 61.90 | 73.28 | 83.69 | 103.41 | 129.27
64 | 30.71 | 31.59 | 47.12 | 62.84 | 73.74 | 84.20 | 105.03 | 131.29
65 | 31.16 | 31.68 | 47.73 | 63.46 | 74.12 | 84.65 | 106.68 | 133.34
66 | 31.54 | 32.04 | 48.48 | 63.72 | 74.59 | 85.07 | 108.22 | 135.28
67 | 31.97 | 32.48 | 49.26 | 64.39 | 74.95 | 85.55 | 109.92 | 137.40
68 | 32.37 | 32.88 | 49.94 | 65.31 | 75.25 | 85.96 | 111.43 | 139.29
69 | 32.82 | 33.32 | 50.58 | 66.31 | 75.68 | 86.41 | 113.08 | 141.35
70 | 33.20 | 33.71 | 51.36 | 66.60 | 75.98 | 86.75 | 114.67 | 143.33

Commercial Plus Flat Rate Envelope
| ($)
Commercial Plus Regular Flat Rate Envelope, per piece | 4.95
Commercial Plus Legal Flat Rate Envelope, per piece | 4.99
Commercial Plus Padded Flat Rate Envelope, per piece | 5.35

Commercial Plus Flat Rate Box
Size | Delivery to domestic address ($) | Delivery to APO/FPO/DPO address ($)
Small Flat Rate Box | 5.20 | 5.20
Medium Flat Rate Boxes | 10.65 | 10.65
Large Flat Rate Boxes | 14.80 | 12.80

Commercial Plus Regional Rate Boxes
Maximum cubic feet | Local, Zones 1 & 2 ($) | Zone 3 ($) | Zone 4 ($) | Zone 5 ($) | Zone 6 ($) | Zone 7 ($) | Zone 8 ($) | Zone 9 ($)
A | 5.32 | 5.44 | 5.84 | 7.55 | 8.26 | 8.98 | 9.97 | 11.96
B | 6.16 | 7.25 | 8.10 | 10.66 | 13.37 | 14.42 | 16.28 | 19.53
C | 9.85 | 10.70 | 10.74 | 19.78 | 37.38 | 40.89 | 47.43 | 57.39

Commercial Plus Balloon Price

In Zones 1-4 (including local), parcels weighing less than 20 pounds but measuring more than 84 inches in combined length and girth (but not more than 108 inches) are charged the applicable price for a 20-pound parcel.

Commercial Plus Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Critical Mail
Shape | Local, Zones 1 & 2 ($) | Zone 3 ($) | Zone 4 ($) | Zone 5 ($) | Zone 6 ($) | Zone 7 ($) | Zone 8 ($) | Zone 9 ($)
Letter | 3.50 | 3.50 | 3.50 | 3.50 | 3.50 | 3.50 | 3.50 | 3.50
Flat | 4.50 | 4.50 | 4.50 | 4.50 | 4.50 | 4.50 | 4.50 | 4.50
Letter with Signature | 4.60 | 4.60 | 4.60 | 4.60 | 4.60 | 4.60 | 4.60 | 4.60
Flat with Signature | 5.35 | 5.35 | 5.35 | 5.35 | 5.35 | 5.35 | 5.35 | 5.35

Commercial Plus Cubic
Maximum cubic feet | Local, Zones 1 & 2 ($) | Zone 3 ($) | Zone 4 ($) | Zone 5 ($) | Zone 6 ($) | Zone 7 ($) | Zone 8 ($) | Zone 9 ($)
0.10 | 4.58 | 4.65 | 4.74 | 4.99 | 5.23 | 5.47 | 5.82 | 6.98
0.20 | 4.99 | 5.12 | 5.28 | 5.50 | 5.70 | 5.91 | 6.30 | 7.56
0.30 | 5.22 | 5.61 | 6.12 | 7.64 | 8.39 | 9.09 | 9.96 | 11.94
0.40 | 5.40 | 6.31 | 7.24 | 9.13 | 10.73 | 11.77 | 13.26 | 15.91
0.50 | 6.18 | 7.21 | 8.35 | 11.50 | 13.41 | 14.82 | 16.97 | 20.36

Open and Distribute (PMOD)

a. DDU

Container | Local, Zones 1 & 2 ($) | Zone 3 ($) | Zone 4 ($) | Zone 5 ($) | Zone 6 ($) | Zone 7 ($) | Zone 8 ($) | Zone 9 ($)
Half Tray | 7.49 | 9.17 | 11.08 | 17.83 | 18.06 | 19.64 | 21.80 | 27.25
Full Tray | 10.18 | 12.74 | 14.83 | 25.95 | 29.83 | 31.69 | 35.36 | 44.20
EMM Tray | 11.67 | 13.91 | 17.18 | 28.71 | 31.52 | 34.61 | 38.48 | 48.10
Flat Tub | 16.68 | 20.91 | 25.85 | 43.73 | 52.78 | 57.06 | 63.51 | 79.39

b. Processing Facilities

Container | Local, Zones 1 & 2 ($) | Zone 3 ($) | Zone 4 ($) | Zone 5 ($) | Zone 6 ($) | Zone 7 ($) | Zone 8 ($) | Zone 9 ($)
Half Tray | 5.94 | 7.52 | 9.24 | 16.10 | 16.45 | 18.00 | 19.32 | 24.15
Full Tray | 7.68 | 9.90 | 12.33 | 22.49 | 26.58 | 28.45 | 31.80 | 39.75
EMM Tray | 9.16 | 10.62 | 14.46 | 24.83 | 28.20 | 31.05 | 35.88 | 44.85
Flat Tub | 13.11 | 17.33 | 21.95 | 40.09 | 48.96 | 53.30 | 58.63 | 73.29

Pickup on Demand Service

Add $20.00 for each Pickup On Demand stop.

IMpb-Noncompliance Fee

Add $0.20 for each IMpb-noncompliant parcel paying commercial prices.

[FR Doc. 2014-16012 Filed 7-8-14; 8:45 am]

BILLING CODE 7710-12-P